ENVIRONMENTAL PROTECTION AGENCY

40 CFR Part 52

[MO 093-1093; FRL-6537-4]

Approval and Promulgation of Implementation Plans; State of Missouri

AGENCY: Environmental Protection Agency (EPA).

ACTION: Proposed rule.

SUMMARY: EPA is proposing to approve a set of volatile organic compound (VOC) rules for the St. Louis, Missouri, nonattainment area. These rules are intended to satisfy the Reasonably Available Control Technology (RACT) requirements of section 182(b)(2) of the Clean Air Act (Act) Amendments of 1990. The VOC reductions achieved by the implementation of these rules will be accounted for in the 15% Rate-of-Progress Plan (ROPP) and the attainment demonstration for the St. Louis nonattainment area as required in section 182(b)(1)(A) of the Act. EPA will address the achieved reductions as part of the 15% ROPP and the attainment demonstration in a separate rulemaking.

DATES: Comments must be received on or before March 20, 2000.

ADDRESSES: All comments should be addressed to Kim Johnson, Air Planning and Development Branch, 901 North 5th Street, Kansas City, Kansas 66101. Copies of the state submittals are available at the following addresses for inspection during normal business hours: Environmental Protection Agency, Air Planning and Development Branch, 901 North 5th Street, Kansas City, Kansas 66101; and the Environmental Protection Agency, Air and Radiation Docket and Information Center, Air Docket (6102), 401 M Street, SW, Washington, DC 20460.

FOR FURTHER INFORMATION CONTACT: Kim Johnson at (913) 551-7975.

SUPPLEMENTARY INFORMATION: Throughout this document whenever “we, us, or our” is used, we mean EPA.

This section provides additional information by addressing the following questions:

What is a SIP?

What is the Federal approval process for a SIP?

What does Federal approval of a state regulation mean to me?

What is being addressed in this document?

Have the requirements for approval of a SIP revision been met?

What action is EPA taking?

What Is a SIP?

Section 110 of the Clean Air Act (CAA) requires states to develop air pollution regulations and control strategies to ensure that state air quality meets the national ambient air quality standards established by us. These ambient standards are established under section 109 of the CAA, and they currently address six criteria pollutants. These pollutants are: carbon monoxide, nitrogen dioxide, ozone, lead, particulate matter, and sulfur dioxide.

Each state must submit these regulations and control strategies to us for approval and incorporation into the Federally enforceable SIP.

Each Federally approved SIP protects air quality primarily by addressing air pollution at its point of origin. These SIPs can be extensive, containing state regulations or other enforceable documents and supporting information such as emission inventories, monitoring networks, and modeling demonstrations.

What Is the Federal Approval Process for a SIP?

In order for state regulations to be incorporated into the Federally enforceable SIP, states must formally adopt the regulations and control strategies consistent with state and Federal requirements. This process generally includes a public notice, public hearing, public comment period, and a formal adoption by a state-authorized rulemaking body.

Once a state rule, regulation, or control strategy is adopted, the state submits it to us for inclusion into the SIP. We must provide public notice and seek additional public comment regarding the proposed Federal action on the state submission. If adverse comments are received, they must be addressed prior to any final Federal action by us.

All state regulations and supporting information approved by us under section 110 of the CAA are incorporated into the Federally approved SIP. Records of such SIP actions are maintained in the Code of Federal Regulations (CFR) at Title 40, Part 52, entitled “Approval and Promulgations of Implementation Plans.” The actual state regulations which are approved are not reproduced in their entirety in the CFR outright but are “incorporated by reference,” which means that we have approved a given state regulation with a specific effective date.

What Does Federal Approval of a State Regulation Mean to Me?

Enforcement of the state regulation before and after it is incorporated into the Federally approved SIP is primarily a state responsibility. However, after the regulation is Federally approved, we are authorized to take enforcement action against violators. Citizens are also offered legal recourse to address violations as described in the CAA.

What Is Being Addressed in this Document?

VOC emissions combine with nitrogen oxide emissions on hot, sunny days to form ground level ozone, commonly known as smog. The purpose of the following rules is to establish RACT requirements for major sources of VOC emissions to help reduce ozone concentrations in the St. Louis ozone nonattainment area. The St. Louis ozone nonattainment area includes Franklin, Jefferson, St. Charles, and St. Louis counties, and St. Louis City in Missouri.

We are proposing to approve as an amendment to the Missouri SIP the following rules:

10 CSR 10-5.220 Control of Petroleum Liquid Storage, Loading, and Transfer

Missouri has updated its existing rule 10 CSR 10-5.220 to improve the clarity of the regulation and generally strengthen the SIP. This rule restricts VOC emissions from the handling of petroleum liquids in five specific areas. These areas include petroleum storage tanks with a capacity greater than 40,000 gallons, the loading of gasoline into delivery vessels, the transfer of gasoline from delivery vessels into storage containers, gasoline delivery vessels, and the fueling of motor vehicles from storage containers.

The RACT requirements as established in this rule are equivalent with the RACT identified in several of EPA's control techniques guidelines (CTG). The CTGs provide recommended RACT levels for gasoline service stations, bulk gasoline plants, tank truck gasoline loading terminals, fixed roof tanks, floating roof tanks, and Stage II vapor recovery.

The rule contains enforceable requirements for the use of vapor loss control devices and/or vapor recovery systems for petroleum storage tanks, gasoline loading installations, gasoline transfer to gasoline storage tanks or gasoline delivery vessels and the fueling of motor vehicles, and the annual test for a leak tight condition. The rule establishes test methods for gasoline delivery vessels and fueling of motor vehicles. For the five areas where VOC emissions from the handling of petroleum liquids are restricted, the rule also specifies the recordkeeping requirements and requires records to be kept for two years.

10 CSR 10-5.295 Control of Emissions From Aerospace Manufacture and Rework Facilities

This new rule requires all aerospace manufacture and rework facilities in the St. Louis nonattainment area, which emit greater than 25 tons per year, to use low VOC coatings and cleaning solvents.

This Missouri rule contains a list of VOC coating operations used in the aerospace manufacture and rework industry and the corresponding VOC content limit for the coating used in each operation. The rule also specifies appropriate low emission application techniques, using high transfer efficiency equipment such as: flow/curtain application, dip coat application, roll coating, brush coating, cotton-tipped swab application, electrodeposition coating, high volume low pressure spraying, and electrostatic spray application.

The RACT requirements as established in this rule are consistent with the control technology recommended in EPA's “Control Techniques Guideline (CTG) for Control of Volatile Organic Compound Emissions from Coating Operations at Aerospace Manufacturing and Rework Operations” (EPA-453/R-97/04), published in December 1997.

10 CSR 10-5.500 Control of Emissions From Volatile Organic Liquid Storage

This rule limits the VOC emissions from installations storing large volumes of volatile organic liquids. The control requirements apply to all 40,000 gallon or larger volatile organic liquid storage containers storing liquid with a maximum true vapor pressure of one-half pound per square inch or greater.

The RACT measures defined in this rule include specifications for internal and external floating roofs and installation of a closed vent system for vapor control.

The RACT requirements as established in the rule are identical to the control options described in EPA's “Alternative Control Techniques (ACT) Document: Volatile Organic Liquid Storage in Floating and Fixed Roof Tanks” (EPA-453/R-94-001), published in January 1994. EPA believes that this document adequately identifies RACT for volatile organic liquid storage facilities.

10 CSR 10-5.520 Control of Volatile Organic Compound Emissions From Existing Major Sources

This new rule requires major facilities that are not regulated by current category-specific RACT regulations to conduct a RACT study and implement the RACT level controls defined by the study as approved by Missouri. Major facilities are defined as having the potential to emit one hundred (100) tons per year or more of VOCs.

The RACT studies are to be submitted to the Missouri Department of Natural Resources (MDNR) for approval on or before June 1, 2000. Implementation of the RACT controls are to be completed as expeditiously as possible, but no later than September 1, 2002.

The state rule outlines the requirements of the RACT study including identification of each emission unit subject to the RACT requirement, estimates of the potential and actual emissions from each unit, a ranking of the available control options and their respective control effectiveness, evaluation of the technical feasibility of the available control options, and cost analysis criteria. Testing, monitoring, and recordkeeping and reporting procedures to demonstrate compliance are also required as part of the approved RACT controls for each proposal of RACT controls. Documents supporting the RACT proposals and implementation are required to be kept for a period of five years. The requirements for the RACT studies as defined in this rule are consistent with EPA's policy on generic RACT defined below.

As documentation for this rule, MDNR submitted a “Demonstration of De Minimis Emission for Missouri Generic Reasonably Available Control Technology (RACT) Regulations 10 CSR 10 5.510 and 10 CSR 10-5.520, November 15, 1999.” This demonstration is consistent with the EPA memo dated November 7, 1996, from Sally Shaver, Director of Air Quality Strategies and Standard Division, regarding the “Approval Options for Generic RACT Rules Submitted to meet the Non-CTG VOC RACT Requirements and Certain NOX RACT Requirements” which sets forth approval criteria for generic RACT rules.

EPA's above-referenced policy states that full approval of a generic RACT rule may be appropriate if sources accounting for most of the emissions in an area are covered by a specific RACT emission limit, and the generic rule covers only sources which, in the aggregate, represent a de minimis level of emissions. EPA has reviewed the state's demonstration and believes that Missouri has made an adequate showing that full approval of its generic rule is appropriate.

Full approval of this generic RACT rule will not relieve sources or the state of the obligation to ensure that all sources within the regulated area comply with the RACT requirement of the CAA, by adopting and implementing emission limitations. All “case by case” RACT determinations must be submitted to EPA for inclusion in the Federally approved SIP to ensure that the requirements are enforceable by EPA.

Also, although Missouri and EPA are not aware of any such sources, any remaining sources not identified in the demonstration or currently “unknown” are required to determine and comply with RACT. This requirement is enforceable by EPA and by citizen groups under section 304 of the Act. Although this rule is proposed for approval as meeting RACT, if EPA later determines that sources remain unregulated under the Federally approved SIP, EPA could issue a SIP call or, possibly, a finding of nonimplementation of the SIP.

10 CSR 10-5.530 Control of Volatile Organic Compound Emissions From Wood Furniture Manufacturing Operations

This rule limits the VOC emissions from wood furniture manufacturing operations that have the potential to emit equal to or greater than twenty-five (25) tons per year of VOC emissions.

The RACT measures defined in this rule include limiting VOC emissions from finishing operations or installation of a control system that will achieve an equivalent reduction, and developing and maintaining work practice standards which further reduce VOC emissions. Facilities may use low VOC emissions coatings, higher solids coatings, emissions averaging, or a control device to meet the emissions limits. Control devices which meet the requirement of this rule include thermal incinerators, catalytic incinerators with a fixed or fluidized catalyst bed, and carbon adsorbers.

The RACT requirements as established in the rule are equivalent with the RACT controls recommended in EPA's “Control Techniques Guideline Series Document: Control of Volatile Organic Emissions from Wood Furniture Manufacturing Operations” (EPA-453/R-96-007), published in April 1996.

10 CSR 10-5.540 Control of Emissions From Batch Process Operations

This rule establishes RACT controls to limit the VOC emissions from batch process operations. The control requirements apply to batch operation sources that have the potential to emit equal to or greater than 100 tons per year of VOC emissions and that are identified by one of seven different four digit standard industrial classification codes under the chemical manufacturing category.

RACT as established by this rule requires the installation of control devices which reduce uncontrolled VOC emissions from a single unit operation by an overall efficiency, on an annual average of at least ninety percent (90 percent), or emission limit of twenty (20) ppmv, per batch cycle. The control equipment specified in this rule to meet the VOC emission reductions include thermal or catalytic afterburners, flares, scrubbers, condensers, or carbon adsorbers.

The RACT requirements as established in the rule are consistent with the control options described in EPA's “Control of Volatile Organic Compound Emissions from Batch Processes—Alternative Control Techniques (ACT) Information Document” (EPA-453/R-93-017), published in February 1994. EPA believes this document identifies appropriate RACT levels for batch process operation emissions.

10 CSR 10-5.550 Control of Volatile Organic Compound Emissions From Reactor Processes and Distillation Operations Processes in the Synthetic Organic Chemical Manufacturing Industry

This new rule implements RACT control of VOC emissions from the synthetic organic chemical manufacturing industry (SOCMI). Specifically, this rule requires RACT for control of VOC emissions from any vent stream originating from a process unit in which a reactor process or distillation operation is located.

The control level for RACT in this rule is represented by a VOC emission reduction of 98 weight-percent or reduction to 20 ppmv dry basis, corrected to 3 percent oxygen. This level of control can be achieved by combustion through either thermal incineration or flaring.

The RACT requirements as established in the rule are consistent with the RACT control measures recommended in EPA's “Control Techniques Guideline (CTG) for Control of Volatile Organic Compound Emissions from Reactor Processes and Distillation Operations Processes in the SOCMI Industry” (EPA-450/4-91-031), published in August 1993.

Summary

These source-specific RACT rules and the generic RACT rule were submitted to ensure that all source categories addressed by a CTG or ACT and all major sources of VOC not addressed by a CTG or ACT in the St. Louis nonattainment area are subject to RACT level controls.

On November 15, 1999, MDNR submitted a letter to EPA stating that there are no existing unregulated or uncontrolled shipbuilding and ship repair operations located in the St. Louis ozone nonattainment area. In addition, on December 17, 1999, MDNR submitted an additional letter stating that there are no other known, unregulated major sources of VOC in the St. Louis nonattainment area.

These new VOC RACT rules are consistent with Federal regulations and are consistent with the appropriate EPA control techniques guidelines or alternative control techniques documents. The rules contain enforceable emission limits, appropriate compliance methods, require recordkeeping to determine compliance, and meet all applicable enforceability requirements.

Have the Requirements for Approval of a SIP Revision Been Met?

The state submittal has met the public notice requirements for SIP submissions in accordance with 40 CFR section 51.102. The submittal also satisfied the completeness criteria of 40 CFR Part 51, Appendix V. In addition, as explained above and in more detail in the technical support document which is part of this notice, the revision meets the substantive SIP requirements of the CAA, including section 110 and implementing regulations.

What Action is EPA Taking?

We are proposing to approve as an amendment to the Missouri SIP the following rules applicable to the St. Louis nonattainment area: 10 CSR 10-5.220 Control of Petroleum Liquid Storage, Loading, and Transfer; 10 CSR 10-5.295 Control of Emissions From Aerospace Manufacture and Rework Facilities; 10 CSR 10-5.500 Control of Emissions from Volatile Organic Liquid Storage; 10 CSR 10-5.520 Control of Volatile Organic Compound Emissions From Existing Major Sources; 10 CSR 10-5.530 Control of Volatile Organic Compound Emissions From Wood Furniture Manufacturing Operations; 10 CSR 10-5.540 Control of Emissions from Batch Process Operations; 10 CSR 10-5.550 Control of Volatile Organic Compound Emissions From Reactor Processes and Distillation Operations Processes in the Synthetic Organic Chemical Manufacturing Industry

Conclusion

These rules will reduce VOC emissions in the St. Louis area and meet the RACT requirements of section 182(b)(2) of the Act as amended in 1990.

Administrative Requirements

Under Executive Order 12866 (58 FR 51735, October 4, 1993), this proposed action is not a “significant regulatory action” and therefore is not subject to review by the Office of Management and Budget. This proposed action merely approves state law as meeting Federal requirements and imposes no additional requirements beyond those imposed by state law. Accordingly, the Administrator certifies that this proposed rule will not have a significant economic impact on a substantial number of small entities under the Regulatory Flexibility Act (5 U.S.C. 601 et seq.). Because this rule proposes to approve preexisting requirements under state law and does not impose any additional enforceable duty beyond that required by state law, it does not contain any unfunded mandate or significantly or uniquely affect small governments, as described in the Unfunded Mandates Reform Act of 1995 (Pub. L. 104-4). For the same reason, this proposed rule also does not significantly or uniquely affect the communities of tribal governments, as specified by Executive Order 13084 (63 FR 27655, May 10, 1998). This proposed rule will not have substantial direct effects on the states, on the relationship between the national government and the states, or on the distribution of power and responsibilities among the various levels of government, as specified in Executive Order 13132 (64 FR 43255, August 10, 1999), because it merely approves a state rule implementing a Federal standard, and does not alter the relationship or the distribution of power and responsibilities established in the CAA. This proposed rule also is not subject to Executive Order 13045 (62 FR 19885, April 23, 1997), because it is not economically significant.

In reviewing SIP submissions, EPA's role is to approve state choices, provided that they meet the criteria of the CAA. In this context, in the absence of a prior existing requirement for the state to use voluntary consensus standards (VCS), EPA has no authority to disapprove a SIP submission for failure to use VCS. It would thus be inconsistent with applicable law for EPA, when it reviews a SIP submission, to use VCS in place of a SIP submission that otherwise satisfies the provisions of the CAA. Thus, the requirements of section 12(d) of the National Technology Transfer and Advancement Act of 1995 (15 U.S.C. 272 note) do not apply. As required by section 3 of Executive Order 12988 (61 FR 4729, February 7, 1996), in issuing this proposed rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the Executive Order. This proposed rule does not impose an information collection burden under the provisions of the Paperwork Reduction Act of 1995 (44 U.S.C. 3501 et seq.).

List of Subjects 40 CFR Part 52

Environmental protection, Air pollution control, Carbon monoxide, Hydrocarbons, Incorporation by reference, Intergovernmental relations, Lead, Nitrogen dioxide, Ozone, Particulate matter, Reporting and recordkeeping requirements, Sulfur oxides.

Authority: 42 U.S.C. 7401 et seq.

Dated: January 25, 2000.
Dennis Grams,
Regional Administrator, Region VII.

[FR Doc. 00-3472 Filed 2-16-00; 8:45 am]

BILLING CODE 6560-50-U